DEPARTMENT OF HOMELAND SECURITY

Coast Guard

33 CFR Part 117

[Docket No. USCG-2014-0560]

Drawbridge Operation Regulations; Narrow Bay, Smith Point, NY

AGENCY: Coast Guard, DHS.

ACTION: Notice of deviation from drawbridge regulation.

SUMMARY: The Coast Guard has issued a temporary deviation from the operating schedule that governs the Smith Point Bridge across Narrow Bay, mile 6.1, between Smith Point and Fire Island, New York. The deviation is necessary to facilitate the 5K Run for Literacy. This deviation allows the bridge to remain closed for one hour to facilitate public safety during a public event.

DATES: This deviation is effective between 9 a.m. and 10 a.m. on September 6, 2014.

ADDRESSES: The docket for this deviation, [USCG-2014-0560] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone 202-366-9826.

SUPPLEMENTARY INFORMATION: The Smith Point Bridge, mile 6.1, across Narrow Bay, between Smith Point and Fire Island, New York, has a vertical clearance in the closed position of 18 feet at mean high water and 19 feet at mean low water. The drawbridge operation regulations are listed at 33 CFR 117.799(d).

The waterway users are recreational vessels of various sizes.

The owner of the bridge, Suffolk County Department of Public Works, requested a temporary deviation from the regulations to allow the bridge to remain closed for one hour to facilitate public safety during a public event, the 5K Run for Literacy.

Under this temporary deviation the Smith Point Bridge across Narrow Bay, mile 6.1, between Smith Point and Fire Island, may remain in the closed position between 9 a.m. and 10 a.m. on September 6, 2014.

Vessels that can pass under the bridge in the closed position may do so at any time. There are no alternate routes; however, the bridge can open in an emergency. Vessel operators will be notified of the bridge closure through a Safety Marine Information Broadcast (SMIB) issued by the Coast Guard.

In accordance with 33 CFR 117.35(e), the drawbridge must return to its regular operating schedule immediately at the end of the effective period of this temporary deviation. This deviation from the operating regulations is authorized under 33 CFR 117.35.

Dated: July 2, 2014.
C.J. Bisignano,
Supervisory Bridge Management Specialist, First Coast Guard District.

[FR Doc. 2014-16603 Filed 7-14-14; 8:45 am]

BILLING CODE 9110-04-P